DEPARTMENT OF DEFENSE

Department of the Army

Intent To Grant an Exclusive License for U.S. Army Owned Invention to Savit Corporation

AGENCY: Department of the Army, DoD.

ACTION: Notice.

SUMMARY: The Department of the Army announces that, unless there is an objection, after 15 days it contemplates granting an exclusive license to Savit Corporation, Rockaway, New Jersey for U.S. patents 8,161,883 “Flash-Bang Grenade with Greater Flash Intensity”, and D642,235 “Housing for Flash-Bang Grenade.” Any license granted shall comply with 35 U.S.C. 209 and 37 CFR part 404.

DATES: Objections must be received within 15 days of this Notice.

ADDRESSES: Send written objections to Timothy Ryan, U.S. Army ARDEC, ATTN: RDAR-EIB (Bldg 93), Picatinny Arsenal, NJ 07806-5000.

FOR FURTHER INFORMATION CONTACT: Mr. Timothy Ryan, email: timothy.s.ryan.civ@mail.mil; (973) 724-7953.

SUPPLEMENTARY INFORMATION: None.

Brenda S. Bowen,
Army Federal Register Liaison Officer.

[FR Doc. 2017-03043 Filed 2-14-17; 8:45 am]

BILLING CODE 5001-03-P